POSTAL SERVICE

Privacy Act of 1974, System of Records

AGENCY: Postal Service.

ACTION: Notice of modifications to an existing system of records.

SUMMARY: This document publishes notice of modifications to the Privacy Act system of records USPS 070.040, Inquiries and Complaints—Customer and Employee Complaint Records. The modifications amend the types of individuals covered, so that the system only covers Postal Service™ employees, not customers. The modifications also make other updates, such as amendments to the system manager and storage of records, to reflect current management practices.

DATES: Any interested party may submit written comments on the proposed modification. This proposal will become effective without further notice on May 3, 2004, unless comments received on or before that date result in a contrary determination.

ADDRESSES: Mail or deliver written comments on this proposal to the Records Office, United States Postal Service, 475 L'Enfant Plaza, SW., Room 5846, Washington, DC 20260-5846. Copies of all written comments will be available at the above address for public inspection and photocopying between 8 a.m. and 4 p.m., Monday through Friday.

FOR FURTHER INFORMATION CONTACT: Rowena Dufford at (202) 268-5246.

SUPPLEMENTARY INFORMATION: System of records USPS 070.040 contains records relating to inquiries and complaints from Postal Service customers and employees. The revisions to this system will limit the types of individuals covered to include only present or former Postal Service employees. This reflects the deletion of customer inquiries and complaints, which are no longer covered by this system. Customer inquiries and complaints are now included in Privacy Act system USPS 530.000, Customer Service and Correspondence. The notice also clarifies that the system covers records that are created as a result of management-initiated investigations into workplace issues.

To reflect the correct scope, the notice proposes several changes to the system. These include changes to the categories of individuals covered by the system, categories of records in the system, the purpose of the system, the system manager, notification procedures, and records source categories. The modifications also make appropriate updates to the system, including changes to the system name, storage, and safeguards. This system does not contain records covered under 030.010, EEO Discrimination Complaint Files, or 120.036, Discipline, Grievance, and Appeals Records for Nonbargaining Unit Employees.

The Postal Service does not expect this amended notice to have any adverse effect on individual privacy rights. The amendment does not change the kinds of personal information about employees that are collected and maintained. The amendment deletes customer information, which is included in a different system of records. The amendment also ensures that information collected as part of a management investigation that is Privacy Act protected is appropriately covered in a system of records. The amendment also makes needed updates to the system, such as storage and safeguards revisions.

Pursuant to 5 U.S.C. 552a(e)(11), interested persons are invited to submit written data, views, or arguments on this proposal. A report of the proposed system has been sent to Congress and to the Office of Management and Budget for their evaluation.

Privacy Act System of Records USPS 070.040 was last published in its entirety in the Federal Register on June 29, 1995 (60 FR 33882-33883) and was amended on February 23, 1999 (64 FR 8876-8892). The Postal Service proposes amending the system as shown below:

USPS 070.040

System Name:

[CHANGE TO READ:]

Employee Inquiry, Complaint, and Investigative Records, 070.040

* * * * *

System Location:

[CHANGE TO READ:]

Employee Resource Management, Postal Service Headquarters; areas; performance clusters; districts; Post Offices; and contractor sites.

* * * * *

Categories of Individuals Covered by the System

[CHANGE TO READ:]

Postal Service employees who have contacted the Postal Service with an inquiry or complaint and employees who are subject to management inquiries or investigations.

* * * * *

Categories of Records in the System

[CHANGE TO READ:]

Employee information such as name, address, title, finance number, and work location; nature of the inquiry, complaint, or investigation; assessment of concerns, findings, and recommendations; and resolution of same. Includes general correspondence about employees' complaints and inquiries and records related to management investigations of workplace issues, including but not limited to notes, statements, or statement summaries made during such investigations.

* * * * *

Authority for Maintenance of the System

[CHANGE TO READ:]

39 U.S.C. 401, 404

Purpose

[CHANGE TO READ:]

1. To enable review and response to employee inquiries and complaints.

2. To enable management to initiate, review, process, track, and resolve concerns, complaints, and inquiries relating to the workplace.

3. To support administrative or court litigation and/or arbitration proceedings.

* * * * *

Routine Uses of Records Maintained in the System, Including Categories of Users and the Purposes of Such Uses:

Routine use statements a, b, c, d, e, f, g, h, j, k, l, and m listed in the prefatory statement at the beginning of the Postal Service's published system notices apply to this system.

* * * * *

Policies and Practices for Storing, Retrieving, Accessing, Retaining, and Disposing of Records in the System Storage

[CHANGE TO READ:]

Automated databases, computer storage media, and typed, printed, or handwritten paper.

* * * * *

Retrievability

[CHANGE TO READ:]

By alphabetic or chronological sequence within subject category as derived from correspondence; including employee identifiers, work location, or case number.

* * * * *

Safeguards

[CHANGE TO READ:]

Paper records, computers, and computer storage tapes and disks are maintained in controlled-access areas or under general supervision of Human Resources personnel. Computers are protected by a cipher lock system, card key system, or other physical access control methods. Computer systems and electronic records are also protected with security software and operating system controls, including logon and password identifications, firewalls, terminal and use identifications, and file management. Access to these records is limited to authorized personnel. Contractors must provide similar protection subject to a security compliance review by the Postal Inspection Service.

* * * * *

Retention and Disposal

[CHANGE TO READ:]

Destroy 4 years after response to inquiry, resolution of complaint, and/or after conclusion of investigation. Note: Some records may be retained longer when required for administrative or court litigation, or arbitration proceedings. Records custodians must determine if records are required for such proceedings before destroying.

* * * * *

System Manager(s) and Address

[CHANGE TO READ:]

Vice President, Employee Resources Management, United States Postal Service, 475 L'Enfant Plaza SW., Washington, DC 20260-4200.

* * * * *

Notification Procedure

[CHANGE TO READ:]

Employees wanting to know if information about them is maintained in this system of records must submit a written request to the head of the facility to which they submitted their inquiry or complaint, or to the Human Resources representative responsible for the facility to which they are assigned. Inquiries must contain name, address, and other identifying information sufficient to identify the requestor as well as sufficient information to identify the inquiry, complaint, or investigation.

* * * * *

Record Access Procedures:

Requests for access must be made in accordance with the notification procedure above and the Postal Service Privacy Act regulations regarding access to records and verification of identity under 39 CFR 266.6.

Contesting Records Procedures:

See Notification Procedure and Record Access Procedures above.

Records Source Categories

[CHANGE TO READ:]

Postal Service employees or former employees.

* * * * *

SYSTEMS EXEMPTED FROM CERTAIN PROVISIONS OF THE ACT:

Records or information in this system that have been compiled in reasonable anticipation of a civil action or proceeding are exempt from individual access under 5 U.S.C. 552a(d)(5). In addition, the Postal Service has claimed exemptions from certain provisions of the Act for several of its other systems of records as permitted by 5 U.S.C. 552a(j) and (k). See 39 CFR 266.9. To the extent that copies of exempt records from those other systems are incorporated into this system, the exemptions applicable to the original primary system must continue to apply to the incorporated records.

Neva Watson,
Attorney, Legislative.

[FR Doc. 04-6399 Filed 3-22-04; 8:45 am]

BILLING CODE 7710-12-P